NUCLEAR WASTE TECHNICAL REVIEW BOARD

Board Meeting: January 30-31, 2001—Amargosa Valley, Nevada: Discussions of the Status of DOE Studies Related to a Potential Yucca Mountain, Nevada, Repository for Spent Nuclear Fuel and High-Level Radioactive Waste; Update on Scientific and Engineering Studies Undertaken at the Yucca Mountain site; and Update on the DOE's Development of a Safety Strategy for a Potential Yucca Mountain Repository

Pursuant to its authority under section 5051 of Public Law 100-203, Nuclear Waste Policy Amendments Act of 1987, on Tuesday and Wednesday, January 30 and January 31, 2001, the Nuclear Waste Technical Review Board (Board) will be in Amargosa Valley, Nevada, to discuss U.S. Department of Energy (DOE) efforts to characterize a site at Yucca Mountain, Nevada, as the possible location of a permanent repository for spent nuclear fuel and high-level radioactive waste. The Board will ask the DOE to address several questions about important technical and scientific issues related to evaluating the suitability of the potential repository site. The meeting is open to the public, and several opportunities for public comment will be provided. The Board is charged by Congress with reviewing the technical and scientific validity of DOE activities related to civilian radioactive waste management.

The Board meeting will be held at the Longstreet Inn, HCR 70, Box 559, Amargosa Valley, Nevada. The telephone number is (775) 372-1777; the fax number is (775) 372-1280. The meeting will start at 8:00 a.m. on both days and will be open to the public.

Representatives of Nye County will lead off the meeting on Tuesday, January 30, with a greeting, which will be followed by the introduction of the Acting Director of the DOE's Office of Civilian Radioactive Waste Management and the General Manager of the new contractor for the Yucca Mountain Project, Bechtel SAIC Company LLC. The Board also will hear from Dr. Jean-Claude Duplessy, a member of France's National Scientific Evaluation Committee (CNE), which oversees the scientific and technical activities of the French nuclear waste disposal program. During the rest of the morning session, the DOE will make presentations on the status of the Yucca Mountain Project. It will give a general overview of the program and discuss plans for issuing the site recommendation consideration report. The DOE then will address a specific question from the Board dealing with the analysis of water flow in the unsaturated zone above the proposed repository. After lunch, the Board will ask the DOE to focus on four questions from the Board, dealing in turn with waste package corrosion, repository design, the flow of water in the saturated zone below the proposed repository, and the DOE's analysis of effects of early waste package failures.

On Wednesday, January 31, the DOE will update the Board on ongoing scientific and engineering studies related to the Yucca Mountain site. The update will be followed by a briefing on DOE plans for developing a capability to monitor and confirm its projected behavior of the repository system. The DOE will explain how it intends to create a “learning organization.” The DOE also will discuss the status of its efforts to quantify uncertainty in its performance assessments of the proposed Yucca Mountain repository. After lunch, the DOE will discuss the latest version of its repository safety strategy. Nye County will update results obtained from the its Early Warning Drilling Program. The Electric Power Research Institute will describe its latest performance assessment of a proposed Yucca Mountain repository.

Opportunities for public comment will be provided before the lunch breaks and at the end of the sessions on both days. In addition, interested parties are invited to join Board members for coffee from 7:15 a.m. to 7:55 a.m. on Wednesday, January 31, at the Longstreet Inn. Those wanting to speak during the public comment periods are encouraged to sign the “Public Comment Register” at the check-in table. A time limit may have to be set on individual remarks, but written comments of any length may be submitted for the record. Interested parties also will have the opportunity to submit questions in writing to the Board. As time permits, the questions will be answered during the meeting.

A detailed agenda will be available approximately one week before the meeting. Copies of the agenda can be requested by telephone or obtained from the Board's Web site at http://www.nwtrb.gov. Transcripts of the meeting will be available on the Board's Web site, via e-mail, on computer disk, and on a library-loan basis in paper format from Davonya Barnes of the Board staff, beginning on March 2, 2001.

A block of rooms have been reserved at the Longstreet Inn. When making a reservation, please state that you are attending the Nuclear Waste Technical Review Board meeting. For more information, contact the NWTRB, Karyn Severson, External Affairs; 2300 Clarendon Boulevard, Suite 1300; Arlington, VA 22201-3367; (tel) 703-235-4473; (fax) 703-235-4495; (e-mail) info@nwtrb.gov.

The Nuclear Waste Technical Review Board was created by Congress in the Nuclear Waste Policy Amendments Act of 1987. The Board's purpose is to evaluate the technical and scientific validity of activities undertaken by the Secretary of Energy related to managing the disposal of the nation's spent nuclear fuel and high-level radioactive waste. In the same legislation, Congress directed the DOE to characterize a site at Yucca Mountain, Nevada, to determine its suitability as the location of a potential repository for the permanent disposal of spent nuclear fuel and high-level radioactive waste.

Dated: December 21, 2000.
Joyce M. Dory,
Acting Executive Director, Nuclear Waste Technical Review Board.

[FR Doc. 00-32996 Filed 12-26-00; 8:45 am]

BILLING CODE 6820-AM-M